DEPARTMENT OF LABOR

Office of the Secretary

[Secretary's Order—07-2006]

Coordination and Direction of Department of Labor Programs Affecting Women

1. Purpose

To reaffirm that all components of the Department of Labor (DOL) have the responsibility to work cooperatively to ensure that their missions fully address the needs and concerns of women in the workforce.

2. Authority and Directives Affected

This Order is issued pursuant to 5 U.S.C. 301; 5 U.S.C. 5315; 29 U.S.C. 551, et seq.; and 29 U.S.C. 11-14. This Order cancels Secretary's Order 03-95.

3. Background

The Women's Bureau (WB) has responsibility, under 29 U.S.C. 13, for the “formulation of standards and policies which shall promote the welfare of wage-earning women, improve their working conditions, increase their efficiency, and advance their opportunities for profitable employment.” The WB also has “authority to investigate and report to the [DOL] upon all matters pertaining to the welfare of women in industry. The director of said bureau may from time to time publish the results of these investigations in such a manner and to such extent as the Secretary of Labor may prescribe.” The WB is the single unit at the Federal government level exclusively concerned with serving and promoting the interests of women in the workforce. Within DOL, the WB provides leadership and coordination of DOL activities which impact on women in the workforce.

Through the years, that mission has become increasingly important due to the continuing expansion of women's participation in the workforce. Projections regarding the increasing participation of women in the workforce, coupled with the roles of women in the workforce, further reaffirm and reinforce the need for DOL agencies to work cooperatively.

4. Policy

It is the policy of DOL that all of its activities and programs promote the welfare of all workers and that the needs of women in the workforce are properly addressed in the development and implementation of DOL policy, programs, research, evaluations, and materials. Therefore, DOL activities and programs that relate to, or may affect the participation of women in the nation's workforce must be coordinated with the Women's Bureau.

5. Delegation of Authority and Assignment of Responsibilities

A. The Director of the Women's Bureau, as the principal advisor to the Secretary of Labor with respect to the interests and concerns of women in the workforce, is delegated authority and assigned responsibility for:

(1) Advising and assisting the Secretary of Labor in the development and formulation of standards, policies, and programs that promote the welfare of wage-earning women, improve their working conditions, increase their efficiency, and advance their opportunities for profitable employment;

(2) Ensuring coordination among DOL agencies on matters or programs related to or affecting women in the workforce;

(3) Keeping the Secretary fully informed on the results of DOL's efforts by investigating and reporting to the Secretary upon all matters pertaining to the welfare of women in industry, and from time to time, preparing timely reports of these investigations on critical issues; and

(4) Coordinating with DOL agency heads on policies and programs which impact or may impact women in the workforce.

B. Women's Bureau Regional Administrators are delegated authority and assigned responsibility for:

(1) Advising DOL Regional Agency Heads with respect to the concerns of women in the workforce;

(2) Assisting Regional Agency Heads to carry out their responsibilities to implement this Order;

(3) Serving as a member of the Regional Executive Committee;

(4) Regularly meeting with Regional Representatives; and

(5) Maintaining a liaison with the Solicitor of Labor.

C. Agency Heads are delegated authority and assigned responsibility for coordinating with the Director of the Women's Bureau. This coordination must include, without limitation, the following:

(1) Reviewing current practices and developing appropriate policies and programs to enhance the impact of agency activities on women in the workforce;

(2) Consulting with the WB in the developmental stages of the preparation of policy materials (e.g., regulations, standards and other material for publication in the Federal Register, proposed legislation, Congressional testimony, statistical surveys, publications);

(3) Consulting with the WB during the development of agency work plans to assure that the needs of women in the workforce are addressed and that efforts are coordinated with the WB;

(4) Providing the WB with up-to-date information concerning developments relating to policies, plans, projects, studies, evaluations, proposals, programs, and agency publications (as they relate to women in the workforce);

(5) Utilizing the expertise of the WB in the development and implementation of task forces, meetings, conferences, seminars, training sessions, and similar activities; and

(6) On a regular basis, briefing DOL staff on their agency's commitment to address the needs of women in the workforce.

D. The Regional Representatives are delegated authority and assigned responsibility to consult with the WB Regional Administrators on issues affecting women in the workforce.

E. DOL Agency Regional Administrators and other Agency Regional Heads are delegated authority and assigned responsibility for:

(1) Coordinating with WB Regional Administrators regarding regional policies, programs, and activities that impact women in the workforce;

(2) Consulting with the WB during the development of agency strategic plans to assure that the needs of women in the workforce are addressed;

(3) Providing the WB Regional Administrators with up-to-date information concerning developments relating to policies, plans, projects, studies, evaluations, proposals, programs, and agency publications (as they relate to women in the workforce);

(4) Utilizing the expertise of the WB in the development and implementation of task forces, meetings, conferences, seminars, training sessions, and similar activities; and

(5) On a regular basis, briefing regional staff on their agency's commitment to address the needs of women in the workforce.

F. The Solicitor of Labor is delegated authority and assigned responsibility for providing legal advice and assistance to all officials of the Department relating to the authorities of this Order, for bringing appropriate legal actions on behalf of the Secretary, and representing the Secretary in all civil proceedings.

6. Reservation of Authority

A. The submission of reports and recommendations to the President and the Congress concerning the administration of statutory or administrative provisions is reserved to the Secretary.

B. This Secretary's Order does not affect the authorities and responsibilities of the Office of Inspector General under the Inspector General Act of 1978, as amended, or under Secretary's Order 04-2006 (February 21, 2006).

7. Effective Date

This Order is effective immediately.

Dated: March 3, 2006.
Elaine L. Chao,
Secretary of Labor.

[FR Doc. 06-2425 Filed 3-13-06; 8:45 am]

BILLING CODE 4510-23-P